DEPARTMENT OF TRANSPORTATION

Surface Transportation Board

[STB Docket No. AB-416 (Sub-No. 4X)]

San Bernardino Associated Governments—Abandonment Exemption—in San Bernardino County, CA

Consistent with the Surface Transportation Board's decision in Orange County Transportation Authority, Riverside County Transportation Commission, San Bernardino Associated Governments, San Diego Metropolitan Transit Development Board, North San Diego County Transit Development Board—Acquisition Exemption—The Atchison, Topeka and Santa Fe Railway Company, Finance Docket No. 32173 et al. (STB served Mar. 12, 1997) (Transit Agencies), San Bernardino Associated Governments (SANBAG) has filed a verified notice of exempt abandonment, and information otherwise required under 49 CFR 1152 Subpart F—Exempt Abandonments, to abandon any residual common carrier obligation on a 19.80-mile line of railroad on the Baldwin Park line, formerly operated by Southern Pacific Transportation Company (SP), between milepost 515.70 at the San Bernardino/Los Angeles Counties, CA border and milepost 535.50 in San Bernardino County, CA.¹ The line traverses United States Postal Service Zip Codes 91701, 91730, 91739, 91763, 91786, 92335, 92336, 92376.²

¹ Discontinuance authority was granted to SP for a 4.1-mile segment of the subject line in Southern Pacific Transp. Co.—Abandonment, 8 I.C.C.2d 495 (1992), modified, Southern Pac. Transp. Co.—Aban.—L.A. County, CA, 9 I.C.C.2d 385 (1993), and for the remainder of the subject line in Southern Pacific Transportation Company—Discontinuance of Service Exemption-San Bernardino County, CA, Docket No. AB-12 (Sub-No. 158X) (ICC served June 15, 1994).

² Under 49 CFR 1152.50(d)(2), the railroad must file a verified notice with the Board at least 50 days before the abandonment or discontinuance is to be consummated. SANBAG, in its verified notice tendered for filing on October 7, 2003, indicated a proposed consummation date of November 26, 2003. Because applicant had failed to publish notice in the newspaper as required under 49 CFR 1105.12, the verified notice was not complete until November 4, 2003, when proof of newspaper publication was received at the Board and hence the notice was not deemed filed until then. Thus, the earliest possible consummation date is December 24, 2003. By letter filed November 4, 2003, applicant's representative has confirmed that the correct consummation date is December 24, 2003.

In Transit Agencies, the Board granted SANBAG and several other California transit agencies an exemption from 49 U.S.C. Subtitle IV. The Board also adopted the agencies' proposal that they file a notice, reciting the labor protection the Board is required to impose and adopting the environmental and historic reports filed by the rail carrier (here SP) discontinuing service over the line, to meet the agencies' obligations in fully abandoning the subject rail lines. SANBAG has provided that information, and has submitted its own environmental and historic reports for this line because 10 years have elapsed since SP prepared and submitted the required environmental documentation for its discontinuance of rail service on the subject line.

Also, consistent with the requirements of 49 CFR part 1152, subpart F, SANBAG has certified that: (1) No local traffic has moved over the line for at least 2 years; (2) any overhead traffic on the line can be rerouted over other lines; (3) no formal complaint filed by a user of rail service on the line (or by a state or local government entity acting on behalf of such user) regarding cessation of service over the line either is pending with the Board or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment—Goshen, 360 I.C.C. 91 (1979). This exemption will be effective on December 24, 2003, unless stayed pending reconsideration. Petitions to stay that do not involve environmental issues ³ and trail use/rail banking requests under 49 CFR 1152.29 must be filed by December 4, 2003. Petitions to reopen must be filed by December 15, 2003, with: Surface Transportation Board, 1925 K Street NW., Washington, DC 20423-0001.

³ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

A copy of any petition filed with the Board should be sent to applicant's representative: Charles A. Spitulnik, McLeod, Watkinson & Miller, One Massachusetts Avenue, NW., Suite 800, Washington, DC 20001.

If the verified notice contains false or misleading information, the exemption is void ab initio.

SANBAG has filed an environmental report which addresses the abandonment's effects, if any, on the environment and historic resources. SEA will issue an environmental assessment (EA) by November 28, 2003. Interested persons may obtain a copy of the EA by writing to SEA (Room 500, Surface Transportation Board, Washington, DC 20423-0001) or by calling SEA, at (202) 565-1539. [Assistance for the hearing impaired is available through the Federal Information Relay Service (FIRS) at 1-800-877-8339]. Comments on environmental and historic preservation matters must be filed within 15 days after the EA becomes available to the public.

Environmental, historic preservation, or trail use/rail banking conditions will be imposed, where appropriate, in a subsequent decision.

Pursuant to the provisions of 49 CFR 1152.29(e)(2), SANBAG shall file a notice of consummation with the Board to signify that it has exercised the authority granted and fully abandoned the line. If consummation has not been effected by SANBAG's filing of a notice of consummation by November 24, 2004, and there are no legal or regulatory barriers to consummation, the authority to abandon will automatically expire.

Board decisions and notices are available on our Web site at http://www.stb.dot.gov.

Decided: November 13, 2003.
By the Board, David M. Konschnik, Director, Office of Proceedings.
Vernon A. Williams,
Secretary.

[FR Doc. 03-29033 Filed 11-21-03; 8:45 am]

BILLING CODE 4915-00-P